MORRIS K. UDALL AND STEWART L. UDALL FOUNDATION

Sunshine Act Meetings

TIME AND DATE: 1:00 p.m. to 5:00 p.m. (MST-AZ), Tuesday, November 7, 2023, and 9:00 a.m. to 11:15 a.m. (MST-AZ), Wednesday, November 8, 2023.

PLACE: Morris K. Udall and Stewart L. Udall Foundation, 434 E University Blvd., Suite 300, Tucson, AZ, 85705.

STATUS: This meeting of the Board of Trustees will be open to the public. Members of the public who would like to attend this meeting may request remote access by contacting David Brown at brown@udall.gov prior to November 7, 2023, to obtain the teleconference connection information.

MATTERS TO BE CONSIDERED: Tuesday, November 7, 2023: (1) Call to Order and Chair's Remarks; (2) Trustee Remarks; (3) Executive Director's Remarks; (4) Consent Agenda Approval (Minutes of the April 20-21, 2023, Board of Trustees Meeting; Board Reports submitted for Data and Information Technology, Education Programs, Finance and Internal Controls, John S. McCain III National Center for Environmental Conflict Resolution, and Udall Center for Studies in Public Policy, including the Native Nations Institute for Leadership, Management, and Policy and The University of Arizona Libraries, Special Collections; and Board takes notice of any new and updated personnel policies and internal control methodologies); (5) Board Officer Elections; and (6) John S. McCain III National Center for Environmental Conflict Resolution Overview. Wednesday, November 8, 2023: (7) The University of Arizona Fiscal Year 2024 Program Work Plan and Funding (including resolutions regarding Allocation of Funds to the Udall Center for Studies in Public Policy and The University of Arizona Libraries, Special Collections and Funds Set Aside for the Native Nations Institute for Leadership, Management, and Policy, a program of the Udall Center for Studies in Public Policy); (8) Cybersecurity Updates; (9) Legislative Updates; and (10) Other Business (including timing, location, and topical focus of the Spring 2024 and Fall 2024 Board of Trustees Meetings).

CONTACT PERSON FOR MORE INFORMATION: David P. Brown, Executive Director, 434 E University Blvd., Suite 300, Tucson, AZ, 85705, (520) 901-8560.

Dated: October 20, 2023.

David P. Brown,
Executive Director, Morris K. Udall and Stewart L. Udall Foundation.

[FR Doc. 2023-23603 Filed 10-20-23; 4:15 pm]

BILLING CODE 6820-FN-P